DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 19, 2022 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Farm Service Agency

Title: Emergency Relief Program (ERP) Phase 1.

OMB Control Number: 0560-0309.

Summary of Collection: The Extending Government Funding and Delivering Emergency Assistance Act, (Division B, Title I, Pub. L. 117-43) provided $10,000,000,000 for necessary expenses related to losses of crops (including milk, on-farm stored commodities, crops prevented from planting in 2020 and 2021, and harvested adulterated wine grapes), trees, bushes, and vines, as a consequence of droughts, wildfires, hurricanes, floods, derechos, excessive heat, winter storms, freeze, including a polar vortex, smoke exposure, quality losses of crops, and excessive moisture occurring in calendar years 2020 and 2021. USDA has directed FSA to use part of this funding to provide assistance to producers of eligible crop, tree, bush, and vine losses through ERP.

ERP Phase 1 will use a streamlined application process for losses for which data is already on file with FSA and RMA. Producers will certify on the application that the loss was due, in whole or in part, to a qualifying disaster event and indicate that they agree to obtain crop insurance or NAP coverage for the next two available crop years, which is a statutory requirement for payment eligibility.

Need and Use of the Information: The information submitted by respondents will be used by FSA to determine eligibility and issue payments to eligible applicants under ERP.

Applicants complete the following forms to apply for ERP payments:

FSA-520, Emergency Relief Program (ERP) Phase 1 Application;

AD-2047, Customer Data Worksheet;

CCC-901, Member Information for Legal Entities;

CCC-902, Farm Operating Plan;

AD-1026 Highly Erodible Land Conservation (HELC) and Wetland Conservation (WC) Certification PRA for any FSA programs but is included in the burden hours for information;

Form CCC-860, Socially Disadvantaged, Limited Resource, Beginning and Veteran Farmer or Rancher Certification; and

Form FSA-510, Request for an Exception to the $125,000 Payment Limitation for Certain Programs.

Failure to solicit applications will result in failure to provide payments to eligible applicants as intended by the Extending Government Funding and Delivering Emergency Assistance Act.

Description of Respondents: Farms.

Number of Respondents: 305,000.

Frequency of Responses: Reporting; On Occasion.

Total Burden Hours: 92,310.

Farm Service Agency

Title: Commodity Container Assistance Program (CCAP).

OMB Control Number: 0560-0310.

Summary of Collection: Applicants will receive payments under section 5(e) of the CCC Charter Act (15 U.S.C. 714c(e)) to assist owners of U.S. agricultural products with ongoing market disruptions and facilitate the recovery of shipping and other logistical services required to bring domestically produced agricultural products to their markets.

The CCAP payments continues to be issued after an applicant certifies, as applicable, the number of containers picked up or stored each month or group of months at the designated port. The applicant must certify to the total number of containers picked up or stored by January 31, 2023. If any supporting documentation is requested, the documentation must be submitted to FSA within 30 days from the request.

Need and Use of the Information: To determine whether an applicant is eligible for a CAWA payment, an applicant is required to submit:

• FSA-862, Commodity Container Assistance Program Application that includes applicant information, SAM UEI, and number of containers by port, type, and month.

• If requested by FSA, the applicant must provide supporting documentation to verify the accuracy of information provided on the application, including to substantiate the number and type of shipping containers, ownership of the commodities, or authority to act as a designated marketing agent.

If the eligible participants fail to apply, FSA will result in failure to provide payments to eligible applicants as intended.

Description of Respondents: Farms.

Number of Respondents: 200.

Frequency of Responses: Reporting; On Occasion.

Total Burden Hours: 528.

Farm Service Agency

Title: Food Safety Certification for Specialty Crops Program (FSCSC).

OMB Control Number: 0560-0311.

Summary of Collection: The Farm Service Agency (FSA) is issuing payments under the Coronavirus Aid, Relief, and Economic Stability (CARES) Act of up to $200 million to assist eligible specialty crop operations with on-farm food safety certification and related expenses. The development, implementation, and maintenance of on-farm food safety programs resulted in unforeseen costs for many specialty crop operations who sought alternate markets for their products during the pandemic, as demand from traditional markets such as restaurants and food service diminished or disappeared.

Need and Use of the Information: In order to determine whether a producer is eligible for FSCSC and to calculate a payment, an applicant is required to submit form FSA-888, Food Safety Certification for Specialty Crops Program (FSCSC). Applicants must also have the following forms on file with FSA: AD-2047, Customer Data Worksheet, and SF-3881, ACH Vendor/Miscellaneous Payment Enrollment Form.

The information submitted by respondents are used by FSA to determine eligibility and issue payments to eligible applicants under FSCSC.

Failure to solicit applications will result in failure to provide payments to eligible applicants as intended by the CARES Act.

Description of Respondents: Farms.

Number of Respondents: 22,000.

Frequency of Responses: Reporting; On Occasion.

Total Burden Hours: 25,652.

Ruth Brown,
Departmental Information Collection Clearance Officer.

[FR Doc. 2022-25143 Filed 11-17-22; 8:45 am]

BILLING CODE 3410-05-P